DEPARTMENT OF LABOR

Employment and Training Administration

[TA-W-59,438]

Stimson Lumber Company, St. Helens, OR; Notice of Termination of Investigation

Pursuant to Section 221 of the Trade Act of 1974, as amended, an investigation was initiated on May 22, 2006 in response to a worker petition filed by a state agency representative on behalf of workers of Stimson Lumber Company, St. Helens, Oregon.

The petitioner has requested that the petition be withdrawn. Consequently, the investigation has been terminated.

Signed at Washington, DC, this 7th day of June 2006.
Linda G. Poole,
Certifying Officer, Division of Trade Adjustment Assistance.

[FR Doc. E6-10516 Filed 7-5-06; 8:45 am]

BILLING CODE 4510-30-P